DEPARTMENT OF THE TREASURY

Office of Foreign Assets Control

Unblocking of Specially Designated Nationals and Blocked Persons, Foreign Narcotics Kingpin Designation Act

AGENCY: Office of Foreign Assets Control, Treasury.

ACTION: Notice.

SUMMARY: The Department of the Treasury's Office of Foreign Assets Control (OFAC) is publishing the names of four individuals and five entities whose property and interests in property have been unblocked pursuant to the Foreign Narcotics Kingpin Designation Act (Kingpin Act) (21 U.S.C. Sections 1901-1908, 8 U.S.C. Section 1182).

DATES: The unblocking and removal from the list of Specially Designated Nationals and Blocked Persons (SDN List) of the individuals and entities identified in this notice whose property and interests in property were blocked pursuant to the Kingpin Act, is effective on September 29, 2016.

FOR FURTHER INFORMATION CONTACT: Assistant Director, Sanctions Compliance & Evaluation, Department of the Treasury Office of Foreign Assets Control, Washington, DC 20220, Tel: (202) 622-2490.

SUPPLEMENTARY INFORMATION:

Electronic and Facsimile Availability

This document and additional information concerning OFAC are available from OFAC's Web site at (www.treasury.gov/ofac).

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President or the Secretary of the Treasury. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On September 29, 2016, the Associate Director of the Office of Global Targeting removed from the SDN List the individuals and entities listed below, whose property and interests in property were blocked pursuant to the Kingpin Act.

Individuals

1. AZIMI, Haji Mohammad Rafi (a.k.a. AZIMI, Haji Muhammad Rafi; a.k.a. RAFI, Abdul); DOB 15 Feb 1972; POB Afghanistan; citizen Afghanistan; Passport OR131106 (Afghanistan) (individual) [SDNTK].

2. GUBEREK GRIMBERG, Felipe, Panama; Safed, Israel; DOB 26 Jun 1968; POB Bogota, Colombia; Cedula No. 80414317 (Colombia); alt. Cedula No. E-8-83638 (Panama); National ID No. 326930153 (Israel) (individual) [SDNTK] (Linked To: I&S HOLDING COMPANY, S.A.; Linked To: INDUITEX LTDA.; Linked To: INVERSIONES GILFE S.A.; Linked To: ORBITAL HORIZONS CORP.; Linked To: FUNDACION ISSARA; Linked To: COMERCIALIZADORA INTERNACIONAL ANDINA LIMITADA; Linked To: GUBEREK GRIMBERG E HIJOS Y CIA. S. EN C.; Linked To: CONSTRUCTORA NACIONAL DE PANAMA S.A.; Linked To: AVANTI JOYEROS E.U.; Linked To: COLOMBO PERUANA DE TEJIDOS S.A.).

3. HAKIMI, Ahmad Shah, c/o AHMAD SHAH MONEY EXCHANGE, Afghanistan; c/o MUSHTAQ SHAHEEN CONSTRUCTION AND ROAD MAKING COMPANY, Afghanistan; DOB 1971; Passport OA547045 (Afghanistan); alt. Passport TR039938 (Afghanistan) (individual) [SDNTK].

4. RODRIGUEZ BADILLO, Maria Paloma, Madrid, Spain; DOB 26 Jan 1968; POB Madrid, Spain; citizen Spain; D.N.I. 33503596-W (Spain) (individual) [SDNTK].

Entities

1. AHMAD SHAH MONEY EXCHANGE (a.k.a. AHMAD SHAH HAKIMI MONEY EXCHANGE; a.k.a. HAKIMI MONEY EXCHANGE; a.k.a. SHAH HAKIMI MONEY EXCHANGE), Surai Shahzada, Ground Floor, Shop No. 7, Kabul, Afghanistan; Sara-e-Shahzada Market, Shop No. 7, Kabul, Afghanistan; Sarayee Shahzada, 1 floor, Shop No. 7, Kabul, Afghanistan; Trade License No. 101016 (Afghanistan) [SDNTK].

2. AVANTI JOYEROS E.U. (f.k.a. “ORLY OVADIA DE GUBEREK EMPRESA UNIPERSONAL”), Calle 17 No. 68D-52, Bogota, Colombia; Matricula Mercantil No 745957 (Colombia) [SDNTK].

3. CONSTRUCTORA NACIONAL DE PANAMA S.A., Panama City, Panama; RUC #107196-1-379500 (Panama) [SDNTK].

4. GUBEREK GRIMBERG E HIJOS Y CIA. S. EN C., Bogota, Colombia; NIT #8000609604 (Colombia) [SDNTK].

5. MUSHTAQ SHAHEEN CONSTRUCTION AND ROADMAKING COMPANY (a.k.a. MUSHTAQ SHAHEEN LTD), Surai Shahzada, Ground Floor, Shop No. 7, Surai Shahzada, Kabul, Afghanistan; Surai Shahzada, Shop No. 7, Ground Floor, Surai Shahzada, Kabul, Afghanistan; Room No. 7, Sarai Shahzada Mandawi, Kabul District No. 1, Afghanistan; Commercial Registry Number 31225 (Afghanistan) [SDNTK].

Dated: September 29, 2016.
Gregory T. Gatjanis,
Associate Director, Office of Global Targeting, Office of Foreign Assets Control.

[FR Doc. 2016-24184 Filed 10-5-16; 8:45 am]

BILLING CODE 4810-AL-P